DEPARTMENT OF ENERGY

Federal Energy Regulatory Commission

[Project No. 11810-004]

City of Augusta; Notice of Availability of Final Environmental Assessment

September 22, 2006.

In accordance with the National Environmental Policy Act of 1969 and the Federal Energy Regulatory Commission's (Commission) regulations, 18 CFR Part 380 (Order No. 486, 52 FR 47897), the Office of Energy Projects' staff reviewed an application for an Original Major License for the Augusta Canal Project located on the Augusta Canal, adjacent to the Savannah River, Richmond County, Augusta, GA.

The Commission issued a draft multi-project Environmental Assessment (EA) for the Augusta Canal Project, Sibley Mill Project (P-5044) and Enterprise Mill Project (P-2935) on May 20, 2005. No substantive comments were filed regarding the Sibley Mill and Enterprise Mill projects, and, subsequently, licenses were issued for these projects.

On February 3, 2006, and February 7, 2006, the U.S. Department of Commerce (Commerce), and the U.S. Department of the Interior (Interior), respectively, filed signed copies of a draft Settlement which outlines a proposal for project operation, flows, and fishways for the Augusta Canal Project. By letter filed December 15, 2005, the City stated that the state agencies (the Georgia Department of Natural Resources and South Carolina Department of Natural Resources) agree with the terms of the draft Settlement. The draft Settlement, if finalized, would require changes to Commerce's and Interior's section 18 prescriptions. The City is currently in the process of finalizing the Settlement. Should a final, signed Settlement be filed with the Commission, the details of that Settlement would be addressed in any order issued for this licensing proceeding.

This final EA addresses the issues pertinent to the Augusta Canal Project. Commission staff analyzed the potential environmental effects of licensing the Augusta Canal Project and concluded that issuing a license, with appropriate environmental measures, would not constitute a major federal action that would significantly affect the quality of the human environment.

A copy of the final EA is available for review in the Public Reference Room or may be viewed on the Commission's Web site at http://www.ferc.gov, using the “eLibrary” link. Enter the docket number, excluding the last three digits in the docket number field to access the document. You may register online at http://www.ferc.gov/docs-filing/esubscription.asp to be notified via e-mail of new filings and issuances related to this or any other pending projects. For assistance, contact FERC Online Support at FERCOnlineSupport@ferc.gov or toll-free at 1-866-208-3676, or for TTY, (202) 502-8659.

Magalie R. Salas,
Secretary.

[FR Doc. E6-16000 Filed 9-28-06; 8:45 am]

BILLING CODE 6717-01-P